DEPARTMENT OF AGRICULTURE

Animal and Plant Health Inspection Service

7 CFR Part 301

[Docket No. 00-036-3]

Citrus Canker; Addition to Quarantined Areas

AGENCY: Animal and Plant Health Inspection Service, USDA.

ACTION: Affirmation of interim rule as final rule.

SUMMARY: We are adopting as a final rule, without change, an interim rule that amended the regulations by adding portions of Hendry and Hillsborough Counties, FL, to the list of quarantined areas and by expanding the boundaries of the quarantined areas in Broward, Collier, Dade, and Manatee Counties, FL, due to detections of citrus canker in these areas. The interim rule imposed restrictions on the interstate movement of regulated articles from and through the quarantined areas and was necessary to prevent the spread of citrus canker into noninfested areas of the United States.

EFFECTIVE DATE: The interim rule became effective on August 29, 2000.

FOR FURTHER INFORMATION CONTACT: Mr. Stephen Poe, Operations Officer, Program Support Staff, PPQ, APHIS, 4700 River Road Unit 134, Riverdale, MD 20737-1231; (301) 734-8899.

SUPPLEMENTARY INFORMATION:

Background

In an interim rule effective August 29, 2000, and published in the Federal Register on September 5, 2000 (65 FR 53528-53531, Docket No. 00-036-1), we amended the citrus canker regulations, contained in 7 CFR 301.75-1 through 301.75-16, in response to the detection of the disease in areas outside of the previously quarantined areas. On September 26, 2000, we published a correction (65 FR 57723, Docket No. 00-036-2) that clarified the description of quarantined areas contained in the interim rule. The interim rule, as corrected by that document, added portions of Hendry and Hillsborough Counties, FL, to the list of quarantined areas and expanded the boundaries of the quarantined areas in Broward, Collier, Dade, and Manatee Counties, FL. The interim rule imposed restrictions on the interstate movement of regulated articles from and through the quarantined areas.

Comments on the interim rule were required to be received on or before November 6, 2000. We did not receive any comments. Therefore, for the reasons given in the interim rule, we are adopting the interim rule as a final rule.

This action also affirms the information contained in the interim rule concerning Executive Orders 12372, 12866, and 12988, the Paperwork Reduction Act, and the National Environmental Policy Act.

Further, for this action, the Office of Management and Budget has waived the review process required by Executive Order 12866.

Regulatory Flexibility Act

This rule affirms an interim rule that amended the regulations by adding portions of Hendry and Hillsborough Counties, FL, to the list of quarantined areas and by expanding the boundaries of the quarantined areas in Broward, Collier, Dade, and Manatee Counties, FL, due to the detection of citrus canker in those areas. The interim rule imposed certain restrictions on the interstate movement of regulated articles from and through the quarantined areas. The interim rule was necessary to prevent the spread of citrus canker into noninfested areas of the United States.

In accordance with 5 U.S.C. 604 of the Regulatory Flexibility Act, we have performed a final regulatory flexibility analysis regarding the economic effects of the interim rule on small entities. The Small Business Administration (SBA) defines a firm engaged in agriculture as “small” if it has less than $750,000 in annual receipts.

The entities who could be affected by the interim rule include those businesses that produce, sell, process, handle, or move regulated articles, such as commercial groves, grove maintenance services, fruit transporters, fruit processors, nurseries, nursery stock dealers, fresh fruit retail stores, fruit packers, gift fruit shippers, fruit harvesting contractors, lawn maintenance businesses, and flea markets. Because the interim rule restricted the interstate movement of regulated articles from and through the quarantined areas, entities that are located within the new or expanded quarantined areas, as well as entities located outside the quarantined areas, could be affected.

The number of these entities that meet the SBA definition of a small entity is unavailable. However, it is reasonable to assume that most of these entities are small in size because the majority of the same or similar businesses in southern Florida, as well as the rest of the United States, are small by SBA standards. For example, we have identified a total of 317 commercial citrus groves in those counties in which quarantined areas were established or expanded by the interim rule. Approximately 285 of the 317 commercial citrus groves in those counties meet the SBA definition of a small entity.

Commercial citrus growers, processors, packers, and shippers within the quarantined areas will still be able to move their fruit interstate, provided that, among other things, the fruit is treated and not shipped to another citrus-producing State. Growers will have to bear the cost of treatment, but that cost is expected to be minimal. The prohibition on moving the fruit to other citrus-producing States is not expected to negatively affect entities within the quarantined areas because most States do not produce citrus and growers are expected to be able to find a ready market in non-citrus-producing States.

Alternatively, owners of commercial citrus groves whose trees were removed because of citrus canker pursuant to a public order between 1986 and 1990 or on or after September 28, 1995, may, subject to the availability of funding, receive payments to replace commercial citrus trees. Eligible commercial citrus grove owners may also, subject to the availability of funding, receive payments to recover income from production that was lost as a result of the removal of commercial citrus trees to control citrus canker. These lost production and tree replacement payments will help to reduce the economic effects of the citrus canker quarantine on affected commercial citrus growers.

The nurseries and commercial groves affected by the interim rule will be required to undergo periodic inspections. These inspections may be inconvenient, but the inspections will not result in any additional costs for the nurseries or growers because the Animal and Plant Health Inspection Service or the State of Florida will provide the services of an inspector without cost to the nursery or grower.

Fresh fruit retail stores, nurseries, and lawn maintenance companies, for the most part, operate locally; they do not typically move regulated articles outside of the State of Florida during the normal course of their business, and consumers do not generally move products purchased from those entities out of the State. The fruit sold by grocery stores and other retail food outlets is generally sold for local consumption. Retail nurseries also market their products for local consumption. Lawn maintenance businesses collect yard debris, but they do not normally transport that debris outside the State for disposal.

The fresh fruit retailers affected by the interim rule will be required to abide by restrictions on the interstate movement of regulated articles. They may be affected by the interim rule because fruit sold within the quarantined areas in retail stores cannot be moved outside of the quarantined areas. However, we expect any direct costs of compliance for fresh fruit retailers will be minimal.

The lawn maintenance companies affected by the interim rule will be required to perform additional sanitation measures when maintaining an area inside the quarantined areas. Lawn maintenance companies will have to clean and disinfect their equipment after grooming an area within the quarantined areas, and they must properly dispose of any clippings from plants or trees within the quarantined areas. These requirements will slightly increase costs for lawn maintenance companies affected by the interim rule.

Consideration of Alternatives

The alternative to the interim rule was to make no changes in the citrus canker regulations. We rejected this alternative because failure to quarantine portions of Hendry and Hillsborough Counties, FL, and additional portions of Broward, Collier, Dade, and Manatee Counties, FL, could result in greater economic losses for domestic citrus producers due to citrus canker.

The interim rule contained no new information collection or recordkeeping requirements under the Paperwork Reduction Act of 1995 (44 U.S.C. 3501 et seq.).

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 that was published at 65 FR 53528-53531 on September 5, 2000, and that was corrected in a document that was published at 65 FR 57723 on September 26, 2000.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 18th day of January 2002.
W. Ron DeHaven,
Acting Administrator, Animal and Plant Health Inspection Service.

[FR Doc. 02-1858 Filed 1-24-02; 8:45 am]

BILLING CODE 3410-34-U